DEPARTMENT OF DEFENSE

Office of the Secretary

Membership of the Defense Information Systems Agency Senior Executive Service Performance Review Board

AGENCY: Defense Information Systems Agency.

ACTION: Notice of Membership of the Defense Information Systems Agency Senior Executive Service Performance Review Board.

SUMMARY: This notice announces the appointment of members to the Defense Information Systems Agency (DISA) Performance Review Board. The Performance Review Board provides a fair and impartial review of Senior Executive Service (SES) Performance appraisals and makes recommendations to the Director, Defense Information Systems Agency, regarding final performance ratings and performance awards for DISA SES members.

EFFECTIVE DATE: November 16, 2006.

FOR FURTHER INFORMATION CONTACT: Ms. Beth Shelley, SES Program Manager, Defense Information Systems Agency, P.O. Box 4502, Arlington, Virginia 22204-4502, (703) 607-4411.

SUPPLEMENTARY INFORMATION: In accordance with 5 U.S.C. 4214(c)(4), the following are the names and titles of DISA career executives appointed to serve as members of the DISA Performance Review Board. Appointees will serve one-year terms, effective upon publication of this notice.

MG Marilyn A. Quagliotti, USA, Vice Director, DISA, Chairperson.

Ms. Diann L. McCoy, Component Acquisition Executive, DISA, Member.

Mr. John J. Garing, Director for Strategic Planning and Information/Chief Information Officer, DISA, Member.

Mr. John J. Penkoske, Jr., Director for Manpower, Personnel, and Security, DISA, Member.

Dated: November 8, 2006.
C.R. Choate,
Alternate OSD Federal Register Liaison Officer, Department of Defense.

[FR Doc. 06-9221 Filed 11-15-06; 8:45 am]

BILLING CODE 5001-06-M